SOCIAL SECURITY ADMINISTRATION

[Docket No. SSA-2009-0026]

Privacy Act of 1974, as Amended; Computer Matching Program (SSA/U.S. Department of Health and Human Services, Administration for Children and Families, Office of Child Support Enforcement (HHS/ACF/OCSE)—Match (#1074)

AGENCY: Social Security Administration (SSA).

ACTION: Notice of the renewal of existing computer matching agreements, which are scheduled to expire on October 11, 2009 and August 17, 2010. This agreement consolidates and continues these data exchange operations previously governed by two separate and distinct agreements between the parties.

SUMMARY: In accordance with the provisions of the Privacy Act, as amended, this notice announces a renewal of an existing computer matching program that we are currently conducting with OCSE.

DATES: We will file a report of the subject matching program with the Committee on Homeland Security and Governmental Affairs of the Senate, the Committee on Oversight and Government Reform of the House of Representatives, and the Office of Information and Regulatory Affairs, Office of Management and Budget (OMB). The matching program will be effective as indicated below.

ADDRESSES: Interested parties may comment on this notice by either telefaxing to (410) 965-0201 or writing to the Deputy Commissioner for Budget, Finance and Management, 800 Altmeyer Building, 6401 Security Boulevard, Baltimore, MD 21235-6401. All comments received will be available for public inspection at this address.

FOR FURTHER INFORMATION CONTACT: The Deputy Commissioner for Budget, Finance and Management as shown above.

SUPPLEMENTARY INFORMATION:

A. General

The Computer Matching and Privacy Protection Act of 1988 (Pub. L. 100-503), amended the Privacy Act (5 U.S.C. 552a) by describing the conditions under which computer matching involving the Federal government could be performed and adding certain protections for individuals applying for, and receiving, Federal benefits. Section 7201 of the Omnibus Budget Reconciliation Act of 1990 (Pub. L. 101-508) further amended the Privacy Act regarding protections for such individuals.

The Privacy Act, as amended, regulates the use of computer matching by Federal agencies when records in a system of records are matched with other Federal, State, or local government records. It requires Federal agencies involved in computer matching programs to:

(1) Negotiate written agreements with the other agency or agencies participating in the matching programs;

(2) Obtain the approval of the matching agreement by the Data Integrity Boards (DIB) of the participating Federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments.

B. SSA Computer Matches Subject to the Privacy Act

We have taken action to ensure that all of our computer matching programs comply with the requirements of the Privacy Act, as amended.

Dated: July 16, 2009.
Mary Glenn-Croft,
Deputy Commissioner for Budget, Finance and Management.

Notice of Computer Matching Program, SSA With the HHS/ACF/OCSE

A. Participating Agencies

SSA and HHS/ACF/OCSE

B. Purpose of the Matching Program

The purpose of this matching program is to assist us in (1) establishing or verifying eligibility or payment amounts, or both under the Supplemental Security Income (SSI) program; (2) establishing or verifying eligibility or continuing entitlement under the Disability Insurance (DI) program; and (3) in administering the Ticket to Work and Self-Sufficiency (Ticket to Work) program.

C. Authority for Conducting the Matching Program

The legal authority for us to conduct this matching activity is contained in Sections 453(j)(4), 1631(e)(1)(B) and (f), and 1148(d)(1) of the Social Security Act (Act). Disclosures under this agreement shall be made in accordance with 5 U.S.C. 552a(b)(3) and in compliance with the matching procedures in 5 U.S.C. 552a(o), (p), and (r) of the Privacy Act of 1974, as amended. Section 1148(d)(1) of the Act requires us to verify earnings of beneficiaries/recipients to ensure accurate payments to employer network providers under the Ticket to Work program.

D. Categories of Records and Individuals Covered by the Matching Program

1. Specified Data Elements Used in the Match

We will provide certain identifying information extracted from our Supplemental Security Record and Special Veterans Benefits (SSR) and from our Completed Determination Record—Continuing Disability Determination File (CDR-CDD) systems of records to OCSE. Both agencies will conduct a match of the quarterly wage and unemployment insurance from the National Directory of New Hires of its Location and Collection system of records. Online access queries will be conducted only as needed to the quarterly wage, unemployment insurance, and new hire information screens from the National Directory of New Hires of its Location and Collection system of records.

2. Systems of Records

OCSE will provide us electronic files containing quarterly wage, unemployment insurance, and new hire information from its system of records, the Location and Collection System (HHS/OCSE, 09-90-0074) last published at 72 FR 51446 on September 7, 2007.

Quarterly, we will match OCSE information with electronic files from our system of records, the Supplemental Security Record and Special Veterans Benefits (SSA/OEEAS 60-0103) last published at 71 FR 1830 on January 11, 2006. Our online access queries are from information in our system of records, the Completed Determination Record—Continuing Disability Determination File (SSA/OD 60-0050) last published at 72 FR 1813 on January 11, 2007.

E. Inclusive Dates of the Matching Program

The matching program will become effective no sooner than 40 days after notice of the matching program is sent to Congress and OMB, or 30 days after publication of this notice in the Federal Register, whichever date is later. The matching program will continue for 18 months from the effective date and may be extended for an additional 12 months thereafter, if certain conditions are met.

[FR Doc. E9-20819 Filed 8-27-09; 8:45 am]

BILLING CODE 4191-02-P